DEPARTMENT OF THE INTERIOR

National Park Service

[NPS-WASO-COMP-NPS0041983; OMB Control Number 1024-0279; PPWOCOPP0, PPMPSD1YM0000 (255)]

Agency Information Collection Activities; Submission to the Office of Management and Budget for Review and Approval; National Park Service Lost and Found Report

AGENCY: National Park Service, Interior.

ACTION: Notice of information collection; request for comment.

SUMMARY: In accordance with the Paperwork Reduction Act of 1995, we, the National Park Service (NPS) are proposing to renew an information collection without change.

DATES: Interested persons are invited to submit comments, which NPS must receive on or before March 30, 2026.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 13461 Sunrise Valley Drive, (MS-263) Herndon, VA 20191 (mail); or phadrea_ponds@nps.gov (email). Please include “1024-0279” in the subject line of your comments.

FOR FURTHER INFORMATION CONTACT: Marlene Haynes, Senior Property Manager Office of the Comptroller, National Park Service; or by email at marlene_haynes@nps.gov; or by telephone at 703-487-9311. Individuals in the United States who are deaf, deafblind, hard of hearing, or have a speech disability may dial 711 (TTY, TDD, or TeleBraille) to access telecommunications relay services. Individuals outside the United States should use the relay services offered within their country to make international calls to the point of contact in the United States. You may also view the ICR at https://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on August 15, 2025 (90 FR 39417). We did not receive any comments in response to that Notice.

As part of our continuing effort to reduce paperwork and respondent burdens, we invite the public and other Federal agencies to comment on new, proposed, revised, and continuing collections of information. This helps us assess the impact of our information collection requirements and minimize the public's reporting burden. It also helps the public understand our information collection requirements and provide the requested data in the desired format. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Each year, over 7,000 visitors report lost or found items in the National Park System. According to 36 CFR 2.22, “Disposition of Property,” unattended property is considered abandoned if not claimed within 60 days. This period begins when the owner is notified, or when the item is placed in custody if the owner is unknown.

Unclaimed property must be stored for at least 60 days. If unclaimed, the finder (if not an NPS employee) may claim it. Otherwise, it will be disposed of according to federal regulations.

To comply with 36 CFR 2.22, Form 10-166, “Lost—Found Report,” is used to identify and return lost items to their rightful owners. The form collects necessary information from the reporting visitor. NPS Form 10-166 collects the following information from the visitor filing the report: (1) Park name, receiving station (if appropriate), and date item was lost or found, (2) Name, address, city, state, zip code, email address, and contact phone numbers, (3) Type of item, detailed description of item, and location where the item was last seen or found and (4) Photograph of item (if available).

Title of Collection: National Park Service Lost and Found Report.

OMB Control Number: 1024-0279.

Form Number: NPS Form 10-166 “Lost—Found Report.”

Type of Review: Extension of a currently approved collection.

Description of Respondents: Visitors of NPS units who file reports of lost or found items.

Total Estimated Number of Annual Respondents: 7,500.

Total Estimated Number of Annual Responses: 7,500.

Estimated Completion Time per Response: 5 minutes.

Total Estimated Number of Annual Burden Hours: 625 hours.

Respondent's Obligation: Voluntary.

Frequency of Collection: On occasion.

Total Estimated Annual Non Hour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2026-03920 Filed 2-26-26; 8:45 am]

BILLING CODE 4312-52-P